DEPARTMENT OF AGRICULTURE

Rural Utilities Service

[Docket Number: RUS-23-Telecom-0022]

Amended Notice of Funding Opportunity for the Rural eConnectivity Program for Fiscal Year 2024; Extension of Submission Deadline

AGENCY: Rural Utilities Service, USDA.

ACTION: Notice, extension of submission deadline.

SUMMARY: The Rural Utilities Service (RUS, Agency), a Rural Development (RD) agency of the United States Department of Agriculture (USDA), announced its acceptance of applications under the Rural eConnectivity (ReConnect) program for fiscal year (FY) 2024 in the Federal Register on February 21, 2024. This notice is extending the date by which applications can be submitted.

DATES: The deadline for submissions regarding the Notice of Funding Opportunity (NOFO) published February 21, 2024 at 89 FR 13035 is extended from April 21, 2024, to May 21, 2024. The application window still opens March 22, 2024.

ADDRESSES: Applications must be submitted electronically through the RUS Application Intake System located at usda.gov/reconnect. A synopsis of this NOFO will be made available on grants.gov.

FOR FURTHER INFORMATION CONTACT: Laurel Leverrier, Assistant Administrator, Telecommunications Program, Rural Utilities Service, U.S. Department of Agriculture (USDA), email: laurel.leverrier@usda.gov, telephone: (202) 720-9554.

SUPPLEMENTARY INFORMATION:

Background

The Agency is extending the deadline for submissions regarding the NOFO for Rural eConnectivity (ReConnect) program for fiscal year (FY) 2024 published in the Federal Register on February 21, 2024, from April 21, 2024, to May 21, 2024. The application window still opens March 22, 2024. This change is being made to allow Applicants a full 60 days to prepare their complete applications.

Andrew Berke,
Administrator, Rural Utilities Service, USDA Rural Development.

[FR Doc. 2024-03844 Filed 2-23-24; 8:45 am]

BILLING CODE 3410-15-P